DEPARTMENT OF THE INTERIOR

National Park Service

[NPS-NCR-NACA-0811-8139; 3086-SYM]

Notice of Meeting, National Capital Memorial Advisory Commission

AGENCY: National Park Service, Interior.

ACTION: Notice of meeting.

SUMMARY: Notice is hereby given that the National Capital Memorial Advisory Commission (the Commission) will meet at the National Building Museum, Room 312, 401 F Street, NW., Washington, DC, on Wednesday, September 14, 2011, at 10 a.m., to consider matters pertaining to commemorative works in the District of Columbia and its environs.

DATES: Wednesday, September 14, 2011.

ADDRESSES: National Building Museum, Room 312, 401 F Street, NW., Washington, DC 20001.

FOR FURTHER INFORMATION CONTACT: Ms. Nancy Young, Secretary to the Commission, by telephone at (202) 619-7097, by e-mail at nancy_young@nps.gov, by telefax at (202) 619-7420, or by mail at the National Capital Memorial Advisory Commission, 1100 Ohio Drive, SW., Room 220, Washington, DC 20242.

SUPPLEMENTARY INFORMATION: The Commission was established by Public Law 99-652, the Commemorative Works Act (40 U.S.C. chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service,

Administrator, General Services Administration,

Chairman, National Capital Planning Commission,

Chairman, Commission of Fine Arts,

Mayor of the District of Columbia,

Architect of the Capitol,

Chairman, American Battle Monuments Commission,

Secretary of Defense.

The agenda for the meeting is as follows:

(1) Memorial to Dwight D. Eisenhower—Design consultation.

(2) Review of legislation proposed in the 112th Congress.

(a) H.R. 1972, a bill to authorize the Secretary of the Interior and Administrator of General Services to recommend the termination of authorities to establish commemorative works, to require the Secretary of the Interior to submit a plan to Congress to enhance amenities and activities on the National Mall, to authorize the National Capital Planning Commission to designate and modify the boundaries of Area I, and to direct the National Capital Planning Commission to recommend improvements on processes required by the Commemorative Works Act for the selection, design and subject matter of commemorative works.

(b) H.R. 2070, a bill to direct the Secretary of the Interior to install a plaque at the World War II Memorial commemorating President Franklin D. Roosevelt's prayer with the Nation on June 6, 1944.

(c) H.R. 2563, a bill to authorize a Wall of Remembrance as part of the Korean War Veterans Memorial and to allow certain private contributions to fund that Wall of Remembrance.

3. Other business.

The meeting will begin at 10 a.m. and is open to the public. Persons who wish to file a written statement or testify at the meeting or who want further information concerning the meeting may contact Ms. Nancy Young, Secretary to the Commission. Before including your address, phone number, e-mail address, or other personal identifying information in your comment, you should be aware that your entire comment—including your personal identifying information—may be made publicly available at any time. While you can ask us in your comment to withhold your personal identifying information from public review, we cannot guarantee that we will be able to do so.

Dated: August 9, 2011.
Stephen E. Whitesell,
Regional Director, National Capital Region.

[FR Doc. 2011-21952 Filed 8-25-11; 8:45 am]

BILLING CODE 4312-JK-P